DEPARTMENT OF COMMERCE

National Oceanic and Atmospheric Administration

50 CFR Part 679

[Docket No. 180831813-9170-02; RTID 0648-XY062]

Fisheries of the Exclusive Economic Zone Off Alaska; Chinook Salmon Prohibited Species Catch Limits in the Gulf of Alaska

AGENCY: National Marine Fisheries Service (NMFS), National Oceanic and Atmospheric Administration (NOAA), Commerce.

ACTION: Temporary rule; inseason adjustment.

SUMMARY: NMFS is reapportioning the projected unused amount, 3,342 Chinook salmon prohibited species catch limit, from the vessels participating in directed fishing for pollock in the Central Regulatory area of the Gulf of Alaska (GOA) to vessels participating in directed fishing for pollock in the Western Regulatory area of the GOA. This action is consistent with the goals and objectives of the Fishery Management Plan for Groundfish of the Gulf of Alaska.

DATES: Effective 1200 hours, Alaska local time (A.l.t.), December 23, 2019, until 2400 hours A.l.t., December 31, 2019.

FOR FURTHER INFORMATION CONTACT: Josh Keaton, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2019 Chinook salmon prohibited species catch (PSC) limit for vessels directed fishing for pollock using trawl gear in the Western Regulatory Area of the GOA is 6,684 Chinook salmon (§ 679.21(h)(2)(i)).

The 2019 Chinook salmon PSC limit for vessels directed fishing for pollock using trawl gear in the Central Regulatory Area of the GOA is 18,316 Chinook salmon (§ 679.21(h)(2)(ii)).

The Administrator, Alaska Region, NMFS, (Regional Administrator) has determined that the vessels participating in directed fishing for pollock in the Central Regulatory area of the GOA will not require 3,342 Chinook salmon of the Chinook salmon PSC limit allocated to those vessels under § 679.21(h)(2)(ii)). Therefore, in accordance with § 679.21(h)(5)(iii) and taking into account the need of the sectors for Chinook salmon PSC, and following the limits set forth in § 679.21(h)(5)(iv)(A), NMFS reapportions 3,342 Chinook salmon PSC limit to vessels participating in the directed fishery for pollock in the Western Regulatory area of the GOA.

The 2019 Chinook salmon PSC limits are revised as follows: 14,974 Chinook salmon for vessels participating in directed fishing for pollock in the Central Regulatory area of the GOA (18,316 minus 3,342 Chinook salmon) and 10,026 Chinook salmon for vessels participating in the directed fishery for pollock in the Western Regulatory area of the GOA (6,684 plus 3,342 Chinook salmon).

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion. NMFS was unable to publish a notice providing time for public comment because the most recent, relevant data only became available as of December 18, 2019.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 23, 2019.
Alan D. Risenhoover,
Director, Office of Sustainable Fisheries, National Marine Fisheries Service.

[FR Doc. 2019-28132 Filed 12-23-19; 4:15 pm]

BILLING CODE 3510-22-P